DEPARTMENT OF TRANSPORTATION

Federal Aviation Administration

14 CFR Part 39

[Docket No. FAA-2011-1031; Directorate Identifier 2011-NE-27-AD; Amendment 39-16871; AD 2011-24-07]

RIN 2120-AA64

Airworthiness Directives; Turbomeca S.A. Arriel 2B Turboshaft Engines

AGENCY: Federal Aviation Administration (FAA), DOT.

ACTION: Final rule; request for comments.

SUMMARY: We are adopting a new airworthiness directive (AD) for the products listed above. This AD results from mandatory continuing airworthiness information (MCAI) issued by an aviation authority of another country to identify and correct an unsafe condition on an aviation product. The MCAI describes the unsafe condition as:

Non-conformities on adjustment of some hydromechanical units (HMUs) have been reported by a Turbomeca repair centre. The technical investigations carried out by Turbomeca are showing that only a limited number of HMUs are potentially affected by this non-conformity to HMU adjustment.

Twenty nine HMUs have been identified with the non-conformities. We are issuing this AD to prevent an uncommanded inflight shutdown, which could result in an emergency autorotation landing.

DATES: This AD becomes effective December 14, 2011.

We must receive comments on this AD by December 29, 2011.

The Director of the Federal Register approved the incorporation by reference of certain publications listed in the AD as of December 14, 2011.

ADDRESSES: You may send comments by any of the following methods:

• Federal eRulemaking Portal: Go to http://www.regulations.gov and follow the instructions for sending your comments electronically.

• Mail: U.S. Department of Transportation, 1200 New Jersey Avenue SE., West Building Ground Floor, Room W12-140, Washington, DC 20590-0001.

• Hand Delivery: Deliver to Mail address above between 9 a.m. and 5 p.m., Monday through Friday, except Federal holidays.

• Fax: (202) 493-2251.

For service information identified in this AD, contact Turbomeca S.A., 40220 Tarnos, France; phone: 33-05-59-74-40-00, fax: 33-05-59-74-45-15. You may review copies of the service information at the FAA, Engine & Propeller Directorate, 12 New England Executive Park, Burlington, MA. For information on the availability of this material at the FAA, call (781) 238-7125.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (phone: (800) 647-5527) is the same as the Mail address provided in the ADDRESSES section. Comments will be available in the AD docket shortly after receipt.

FOR FURTHER INFORMATION CONTACT: Mark Riley, Aerospace Engineer, Engine Certification Office, FAA, Engine & Propeller Directorate, 12 New England Executive Park, Burlington, MA 01803; phone: (781) 238-7758; fax: (781) 238-7199; email: mark.riley@faa.gov.

SUPPLEMENTARY INFORMATION:

Discussion

The European Aviation Safety Agency (EASA), which is the Technical Agent for the Member States of the European Community, has issued EASA Airworthiness Directive 2011-0128-E, dated July 6, 2011 (referred to after this as “the MCAI”), to correct an unsafe condition for the specified products. The MCAI states:

Non-conformities on adjustment of some hydromechanical units (HMUs) have been reported by a Turbomeca repair centre. The technical investigations carried out by Turbomeca are showing that only a limited number of HMUs are potentially affected by this non-conformity to HMU adjustment.

Twenty nine HMUs have been identified with potential non-conformities in the proper adjustment of the metering valve. The exact location of these 29 HMUs is unknown. This AD requires actions to be done before further flight. You may obtain further information by examining the MCAI in the AD docket.

Relevant Service Information

Turbomeca S.A. has issued Alert Mandatory Service Bulletin (SB) No. A292 73 2841, Version A, dated July 4, 2011, SB No. 292 73 2143, dated July 24, 2007, and SB No. 292 73 2840, Version A, dated June 28, 2011. The actions described in this service information are intended to correct the unsafe condition identified in the MCAI. The one-time functional test required by the service bulletin is not a normal engine run-up test: the one-time functional test involves additional requirements including mode switching, that are not part of a normal engine run-up after start.

FAA's Determination and Requirements of This AD

This product has been approved by the aviation authority of France, and is approved for operation in the United States. Pursuant to our bilateral agreement with France, EASA has notified us of the unsafe condition described in the MCAI and service information referenced above. We are issuing this AD because we evaluated all information provided by EASA and determined the unsafe condition exists and is likely to exist or develop on other products of the same type design.

FAA's Determination of the Effective Date

An unsafe condition exists that requires the immediate adoption of this AD. The FAA has found that the risk to the flying public justifies waiving notice and comment prior to adoption of this rule because this AD requires either replacing, or functional testing of the HMU before further flight. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2011-1031; Directorate Identifier 2011-NE-27-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact with FAA personnel concerning this AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under the DOT Regulatory Policies and Procedures (44 FR 11034, February 26, 1979); and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-24-07 Turbomeca S.A.: Amendment 39-16871; Docket No. FAA-2011-1031; Directorate Identifier 2011-NE-27-AD.

Effective Date

(a) This airworthiness directive (AD) becomes effective December 14, 2011.

Affected ADs

(b) None.

Applicability

(c) This AD applies to Turbomeca Arriel 2B turboshaft engines with a hydromechanical unit (HMU) that has a part number (P/N) and serial number (S/N) listed in Table 1 of this AD installed.

Table 1—Affected HMUs
P/Ns | S/Ns
0292860750 | 1008B
0292860750 | 1068B
0292860750 | 1142B
0292860750 | 1143B
0292860750 | 1183B
0292860750 | 1230B
0292860750 | 272B
0292860750 | 275B
0292860750 | 342B
0292860750 | 363B
0292860750 | 422B
0292860750 | 436B
0292860750 | 499B
0292860750 | 524B
0292860750 | 536B
0292860750 | 560B
0292860750 | 598B
0292860750 | 606B
0292860750 | 647B
0292860750 | 652B
0292860750 | 716B
0292860750 | 749B
0292860750 | 763B
0292860750 | 806B
0292860750 | 830B
0292860750 | 861B
0292860750 | 944B
0292860750 | 967B
0292861020 | 632B

Reason

(d) This AD results from mandatory continuing airworthiness information (MCAI) issued by an aviation authority of another country to identify and correct an unsafe condition on an aviation product. The MCAI describes the unsafe condition as:

Non-conformities on adjustment of some hydromechanical units (HMUs) have been reported by a Turbomeca repair centre. The technical investigations carried out by Turbomeca are showing that only a limited number of HMUs are potentially affected by this non-conformity to HMU adjustment.

Twenty nine HMUs have been identified with potential non-conformities in the proper adjustment of the metering valve. The exact location of these 29 HMUs is unknown. We are issuing this AD to prevent an uncommanded inflight shutdown, which could result in an emergency autorotation landing.

Actions and Compliance

(e) Unless already done, do the following actions.

(f) Before further flight, perform a one-time functional test of the engine to confirm proper engine operation. This one-time functional test is not a normal engine run-up test. Use the instructions in paragraph 2.B.(1)(a) of Turbomeca Alert Mandatory Service Bulletin No. A292 73 2841, Version A, dated July 4, 2011, to perform the functional test.

(1) If the engine fails the functional test, replace the HMU with an HMU eligible for installation.

(2) If the engine passes the functional test, do the following:

(i) Within four months after the effective date of this AD, install software modification TU143 on the Engine Electronic Control Unit of the engine. Use paragraph 2.B. of Turbomeca Service Bulletin No. 292 73 2143, dated July 24, 2007 to do the installation; and

(ii) Within 12 months after the effective date of this AD, replace the HMU with an HMU eligible for installation.

Definition

(g) For the purpose of this AD, an HMU eligible for installation is defined as one with a serial number not listed in Table 1 of this AD, or, an HMU that passed when tested using Turbomeca Service Bulletin No. 292 73 2840.

FAA AD Differences

(h) None.

Alternative Methods of Compliance (AMOCs)

(i) The Manager, Engine Certification Office, FAA, may approve AMOCs for this AD. Use the procedures found in 14 CFR 39.19 to make your request.

Related Information

(j) Refer to MCAI Airworthiness Directive 2011-0128-E, dated July 6, 2011, for related information.

(k) Contact Mark Riley, Aerospace Engineer, Engine Certification Office, FAA, Engine & Propeller Directorate, 12 New England Executive Park, Burlington, MA 01803; phone: (781) 238-7758; fax: (781) 238-7199, email: mark.riley@faa.gov; for more information about this AD.

Material Incorporated by Reference

(l) You must use the following service information to do the actions required by this AD, unless the AD specifies otherwise. The Director of the Federal Register approved the incorporation by reference (IBR) under 5 U.S.C. 552(a) and 1 CFR part 51 of the following service information on the date specified:

(1) Turbomeca Alert Mandatory Service Bulletin No. A292 73 2841, Version A, dated July 4, 2011, approved for IBR December 14, 2011.

(2) Turbomeca Service Bulletin No. 292 73 2143, dated July 24, 2007, approved for IBR December 14, 2011.

(3) For service information identified in this AD, contact Turbomeca S.A., 40220 Tarnos, France; phone: 33-05-59-74-40-00, fax: 33-05-59-74-45-15.

(4) You may review copies of the service information at the FAA, New England Region, 12 New England Executive Park, Burlington, MA. For information on the availability of this material at the FAA, call (781) 238-7125.

(5) You may also review copies of the service information that is incorporated by reference at the National Archives and Records Administration (NARA). For information on the availability of this material at an NARA facility, call (202) 741-6030 or go to: http://www.archives.gov/federal-register/cfr/ibr-locations.html.

Issued in Burlington, Massachusetts on November 14, 2011.
Peter A. White,
Manager, Engine and Propeller Directorate, Aircraft Certification Service.

[FR Doc. 2011-30574 Filed 11-28-11; 8:45 am]

BILLING CODE 4910-13-P